DEPARTMENT OF HOMELAND SECURITY

Coast Guard

33 CFR Part 165

[Docket Number USCG-2024-0205]

RIN 1625-AA11

Regulated Navigation Area; Port of Miami, Miami, FL

AGENCY: Coast Guard, DHS.

ACTION: Notice of proposed rulemaking.

SUMMARY: The Coast Guard is proposing to establish a regulated navigation area for certain waters surrounding the Port of Miami. This action is necessary to provide for the safety of life and promote national security by enhancing the protection of increased high-risk vessel traffic and reducing the navigational hazards of the mariners who operate throughout the port. This rulemaking would establish a slow speed zone throughout Fisherman's Channel and the Main Ship Channel for vessels less than 50 meters in length. We invite your comments on this proposed rulemaking.

DATES: Comments and related material must be received by the Coast Guard on or before September 27, 2024.

ADDRESSES: You may submit comments identified by docket number USCG-2024-0205 using the Federal Decision-Making Portal at https://www.regulations.gov. See the “Public Participation and Request for Comments” portion of the SUPPLEMENTARY INFORMATION section for further instructions on submitting comments.

FOR FURTHER INFORMATION CONTACT: If you have questions about this proposed rulemaking, call or email LT Stephanie Miranda, District 7 Dpw, U.S. Coast Guard; telephone (571) 610-4432, email Stephanie.LP.Miranda@uscg.mil.

SUPPLEMENTARY INFORMATION:

I. Table of Abbreviations

CFR Code of Federal Regulations

COTP Captain of the Port

DHS Department of Homeland Security

FR Federal Register

LNG Liquified Natural Gas

NAVCEN Coast Guard Navigation Center

NPRM Notice of proposed rulemaking

PAWSA Port and Waterways Safety Assessment

RNA Regulated Navigation Area

§ Section

U.S.C. United States Code

II. Background, Purpose, and Legal Basis

The Captain of the Port (COTP) Miami has determined that there has been an increase in navigational risk associated to the Port of Miami as the port continues to expand and vessel traffic increase. On May 10th and 11th of 2023, Coast Guard Navigation Center (NAVCEN) and Sector Miami held a Ports and Waterways Safety Assessment (PAWSA) with key stakeholders of the Port of Miami. As a result, the workshop identified hazards associated to the port with the largest concern for navigational safety being the high speed of vessels and wake created by increased vessel traffic. Over the last few years, a growing number of near misses prompts concern for the safety of life as vessel traffic volume and vessel speeds have increased. On June 25, 2023, around 3:30 a.m. a recreational vessel, traveling at a high rate of speed through the Main ship channel, collided with a crossing vehicle ferry, killing one and seriously injuring a second. The incident not only resulted in the loss of life but in the disruption of 30,000 cruise ship passengers and critical cargo movements in the Port of Miami for over 12 hours. Additionally, on February 12, 2024 a recreational vessel collied with an inspected charter vessel in a critical point of Fisherman's Channel. This incident resulted in 13 injuries with one person in critical condition. This regulated navigation area will reduce the navigational risk associated with one of the world's largest ports, reduce the loss of life, and mitigate the chance of disruption to port operations.

In addition, the Port of Miami is expanding its cruise ship terminals and will soon be the largest cruise ship port in the World, moving tens of thousands of passengers every day. With this, the Port of Miami also experienced an increase in Liquified National Gas (LNG) powered cruise ships and cargo vessels resulting in an increase of hazardous bunkering operations within the port. The existing national security risk associated with the Port of Miami is already high and this expansion only increased that risk. The establishment of an RNA reducing the speed of vessels will aid law enforcement officials in monitoring vessel traffic, as vessels not complying with slow speed zones will quickly draw attention, giving law enforcement officials more time to assess the situation and take appropriate action to protect vessels within the port and port facilities.

This rulemaking would establish a slow speed restriction on vessels less than 50 meters within the Port of Miami. The purpose of this rulemaking is protecting the public, port, law enforcement officials and the waterways of the United States from potential subversive acts and navigational hazards associated with the high vessel traffic volume experienced within the Port of Miami. The Coast Guard is proposing this rulemaking under authority in 46 U.S.C. 70034.

III. Discussion of Proposed Rule

The Coast Guard's is proposing to establish a permanent regulated navigation area that would require vessels 50 meters or less to transit the regulated area at a slow speed that creates minimum wake to reduce damage and the navigational hazards associated with the Port of Miami shipping channels around Dodge Island. This regulated navigation area covers the waters of Fisherman's Channel, the Main ship channel, and Moley channel surrounding Dodge Island and Biscayne Bay Causeway Island.

IV. Regulatory Analyses

We developed this proposed rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This NPRM has not been designated a “significant regulatory action,” under section 3(f) of Executive Order 12866, as amended by Executive Order 14094 (Modernizing Regulatory Review). Accordingly, the NPRM has not been reviewed by the Office of Management and Budget (OMB).

This regulatory action determination is based on the size and location of the regulated navigation area. The regulated navigation area will only affect vessels entering and passing within the Main ship channel, Fisherman's channel and Meloy channel. Vessels may continue to operate within the regulated navigation area with the only restriction being the requirement to operate at slow speeds and not create an excessive wake. Moreover, upon activating the regulated navigation area, the Coast Guard will notify the local maritime community through various means including, Local Notice to Mariners and Broadcast Notice to Mariners issued on VHF-FM marine radio channel 16.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the regulated navigation area may be small entities, for the reasons stated in section IV. A above, this proposed rule would not have a significant economic impact on any vessel owner or operator.

If you think that your business, organization, or governmental jurisdiction qualifies as a small entity and that this proposed rule would have a significant economic impact on it, please submit a comment (see ADDRESSES) explaining why you think it qualifies and how and to what degree this rulemaking would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have Tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves a regulated navigation area requiring vessels 50 meters or less to transit the regulated area at a slow speed that creates minimum wake. Normally such actions are categorically excluded from further review under paragraph L[60a] of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

G. Protest Activities

The Coast Guard respects the First Amendment rights of protesters. Protesters are asked to call or email the person listed in the FOR FURTHER INFORMATION CONTACT section to coordinate protest activities so that your message can be received without jeopardizing the safety or security of people, places, or vessels.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2024-0205 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you click on the Dockets tab and then the proposed rule, you should see a “Subscribe” option for email alerts. The option will notify you when comments are posted, or a final rule is published.

We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 165

Harbors, Marine safety, Navigation (water), Reporting and recordkeeping requirements, Security measures, Waterways.

For the reasons discussed in the preamble, the Coast Guard is proposing to amend 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Add § 165.792 to read as follows:

§ 165.792 Regulated navigation area; Port of Miami, Miami, Florida.

(a) Location. The following area is a regulated navigation area (RNA): All waters of the Port of Miami, from Fisherman's Channel Daybeacon 16 at 25°46.40′ N, 080°10.84′ W proceeding southeasterly through Fisherman's Channel south of Dodge Island to Miami Main Channel Light 15 at 25°45.86′ N, 080°08.24′ W in Government Cut, thence northwesterly through the Main ship channel north of Dodge Island to Biscayne Bay Light 50 at 25°46.90′ N, 080°10.88′ W. Additionally, the Meloy channel from Miami Main Channel Lighted Buoy 16 at 25°46.04′ N, 080°08.41′ W proceeding northwesterly to the MacArthur Causeway bridge.

(b) Definitions. As used in this section, slow speed means the speed at which a vessel proceeds when it is fully off plane, completely settled in the water and not creating excessive wake. Due to the different speeds at which vessels of different sizes and configurations may travel while in compliance with this definition, no specific speed is assigned to slow speed. A vessel is not proceeding at slow speed if it is:

(1) On plane;

(2) In the process of coming up on or coming off plane; or

(3) Creating an excessive wake.

(c) Regulations. Vessels less than 50 meters entering and transiting through the regulated navigation area shall proceed at a slow speed. Nothing in this section alleviates vessels or operators from complying with all State and local laws in the area including manatee slow speed zones. Nor should anything in this section be construed as conflicting with the requirement to operate at safe speed under the Inland Navigation Rules, (33 CFR chapter I, subchapter E).

(d) Enforcement. The Coast Guard may be assisted in the patrol and enforcement of the Regulated Navigation Area by other Federal, State, and local agencies.

Dated: August 17, 2024.
Douglas M. Schofield,
Rear Admiral, U.S. Coast Guard, Commander, Seventh Coast Guard District.

[FR Doc. 2024-19379 Filed 8-27-24; 8:45 am]

BILLING CODE 9110-04-P